ENVIRONMENTAL PROTECTION AGENCY

[FRL-6983-4]

Agency Information Collection Activities: New Collection; Comment Request; Recordkeeping and Reporting Requirements for the Fuel Quality Regulations for Diesel Fuel Sold in 2001 and Later Years

AGENCY: Environmental Protection Agency (EPA).

ACTION: Notice.

SUMMARY: In compliance with the Paperwork Reduction Act (44 U.S.C. 3501 et seq.), this document announces that EPA is planning to submit the following new Information Collection Request (ICR) to the Office of Management and Budget (OMB): Recordkeeping and Reporting Requirements for the Fuel Quality Regulations for Diesel Fuel Sold in 2001 and Later Years. Before submitting the ICR to OMB for review and approval, EPA is soliciting comments on specific aspects of the proposed information collection as described below.

DATES: Comments must be submitted on or before July 23, 2001.

ADDRESSES: Transportation and Regional Programs Division, Office of Transportation and Air Quality, Office of Air and Radiation, Mail Code 6406J, U.S. Environmental Protection Agency, 1200 Pennsylvania Avenue, NW., Washington, DC 20460. A paper or electronic copy of the draft ICR may be obtained without charge by contacting the person listed below.

FOR FURTHER INFORMATION CONTACT: Anne-Marie Pastorkovich, (202) 564-8987, fax: (202) 565-2085, pastorkovich.anne_marie@epa.gov.

SUPPLEMENTARY INFORMATION: Affected entities: Entities potentially affected by this action are refiners, importers, pipelines, petroleum marketers and other distributors, terminals, fuel oil dealers, fuel additive manufacturers, retailers and wholesale purchaser-consumers.

Title: Recordkeeping and Reporting Requirements for the Fuel Quality Regulations for Diesel Fuel Sold in 2001 and Later Years.

Abstract: The pollution emitted by diesel engines contributes greatly to our nation's continuing air quality problems. On January 18, 2001, EPA published a final rule that establishes standards for heavy-duty engines and vehicles and for highway diesel sulfur control. New emissions standards for these engines and vehicles will apply starting with model year 2007. Since the new technology developed requires low sulfur diesel fuel [15 parts per million (ppm) sulfur or less], the regulations require the availability of this fuel starting by no later than 2006, with all highway diesel fuel required to meet the 15 ppm standard by 2010. See “Control of Air Pollution from New Motor Vehicles: Heavy-Duty Engine and Vehicle Standards and Highway Diesel Fuel Sulfur Control Requirements,” 66 FR 5002 (January 18, 2001).

The diesel sulfur rule contains many types of flexibility aimed at reducing burdens on small businesses and those faced with particular hardships. All refiners producing highway diesel fuel and all importers are able to take advantage of the temporary compliance option offered in the final regulations at 40 CFR 80.530. This option would generally permit the refiner or importer to continue to produce or import fuel meeting a 500 ppm sulfur standard until May 31, 2010 through the use of marketable credits.

Diesel producers who market gasoline in the geographic phase-in area defined in the gasoline sulfur regulations may receive additional flexibility under this diesel fuel program (see 40 CFR 80.217 and 80.540). Refiners that seek and are granted small refiner status may have their choice of three options:

• 500 ppm option. A small refiner may continue to produce and sell diesel fuel meeting the 500 ppm sulfur standard for four additional years, i.e., until June 1, 2010, provided that it reasonably ensures the existence of sufficient volumes of 15 ppm fuel in the marketing area(s) that it serves.

• Small refiner credit option. A small refiner that chooses to produce 15 ppm fuel prior to June 1, 2010 may generate and sell credits under the broader temporary compliance option. Since a small refiner has no requirement to produce 15 ppm fuel under this option, any fuel it produced at or below 15 ppm sulfur would qualify for generating credits.

• Diesel/gasoline compliance date option. For small refiners that are also subject to the gasoline sulfur program (see 40 CFR subpart H), the refiner may choose to extend the duration of its applicable interim gasoline standards by three years, provided that it produces all of its highway diesel fuel at 15 ppm sulfur beginning on June 1, 2006.

In addition, exemptions are possible for research and development purposes. The specific recordkeeping and reporting requirements for this program, and associated flexibilities, are discussed below. For a more detailed description of the diesel program, please refer to the January 18, 2001 Federal Register notice.

This Information Collection Request (ICR) would make ICR additions to the existing fuels regulations applicable to diesel fuel under ICR number 1718.02, which expires July 31, 2001. (ICR number 1718.03 has been reserved for its renewal.) The additional requirements covered under this ICR were included in the final rule published in the Federal Register on January 18, 2001.

The information under this ICR will be collected by EPA's Transportation and Regional Programs Division, Office of Transportation and Air Quality, Office of Air and Radiation (OAR), and by EPA's Air Enforcement Division, Office of Regulatory Enforcement, Office of Enforcement and Compliance Assurance (OECA). The information collected will be used by EPA to evaluate compliance with diesel sulfur control requirements under the diesel rule. This oversight by EPA is necessary to ensure attainment of the air quality goals of the diesel program. An agency may not conduct or sponsor, and a person is not required to respond to, a collection of information unless it displays a currently valid OMB control number. The OMB control numbers for EPA's regulations are listed in 40 CFR part 9 and 48 CFR Chapter 15.

The EPA would like to solicit comments to:

(i) Evaluate whether the collection of information is necessary for the proper performance of the functions of the agency, including whether the information will have practical utility;

(ii) Evaluate the accuracy of the agency's estimate of the burden of the proposed collection of information, including the validity of the methodology and assumptions used;

(iii) Enhance the quality, utility, and clarity of the information to be collected; and

(iv) Minimize the burden of the collection of information on those who are to respond, including through the use of appropriate automated electronic, mechanical, or other technological collection techniques or other forms of information technology, e.g., permitting electronic submission of responses.

Burden Statement: It is estimated that there will be 48,690 reports, 72,648 burden hours, and total costs (labor, overhead and maintenance, purchased services, and annualized capital costs) of $9,208,880. This figure includes the initial burden associated with learning and adapting to the new requirements. A large portion of this burden relates to labor hours needed for start-up programming needs (e.g. establishment of new product codes and adapting company databases to account for credits and in order to generate information in a format for annual reports).

Dated: May 8, 2001.
Deborah K. Wood,
Acting Director, Transportation and Regional Programs Division.

[FR Doc. 01-12892 Filed 5-22-01; 8:45 am]

BILLING CODE 6560-50-P